DEPARTMENT OF AGRICULTURE

Rural Utilities Service

Turning Point Solar LLC; Notice of Intent To Hold a Public Scoping Meeting and Prepare an Environmental Assessment

AGENCY: Rural Utilities Service, USDA.

ACTION: Notice of Intent To Prepare an Environmental Assessment and Hold a Public Scoping Meeting.

SUMMARY: The Rural Utilities Service (RUS) intends to hold a public scoping meeting and prepare an Environmental Assessment (EA) to meet its responsibilities under the National Environmental Policy Act (NEPA), the Council on Environmental Quality's regulations for implementing NEPA (40 CFR parts 1500-1508), and RUS's Environmental and Policies and Procedures (7 CFR part 1794) in connection with potential impacts related to a proposal by Turning Point Solar LLC. The proposal consists of constructing a 49.9 megawatt (MW) ground-mounted solar photovoltaic generating facility in Noble County, Ohio. Turning Point Solar LLC is requesting that RUS provide a loan or loan guarantee for the proposal.

DATES: RUS will conduct a public scoping meeting in an open-house format on Thursday, July 14, 2011, from 5 to 9 p.m. at: Caldwell Elementary School, 44350 Fairground Road, Caldwell, Ohio 43724. Representatives from RUS and Turning Point Solar LLC will be available at the meeting to discuss the environmental review process, the proposal, and the scope of environmental issues currently under consideration. Written comments regarding the proposal may be submitted at the public scoping meeting or by August 15, 2011, to the RUS address provided in this Notice.

ADDRESSES: To send comments or for further information, please contact Ms. Lauren McGee, Environmental Scientist, USDA Rural Utilities Service, Engineering and Environmental Staff, 1400 Independence Avenue, SW., Stop 1571, Room 2244-S, Washington, DC 20250-1571, telephone: (202) 720-1482, fax: (202) 690-0649, or e-mail: mailto: lauren.mcgee@wdc.usda.gov.

An Alternatives Evaluation and Site Selection Study, which discusses the purpose and need for the proposal and the alternatives considered in the proposal's development, is available for public review at the RUS address provided in this Notice, at the following RUS Web site: http://www.rurdev.usda.gov/UWP-ea.htm, and at the following repository: Caldwell Public Library, 517 Spruce Street, Caldwell, OH 43724-0230; telephone: (740) 732-4506 for operating hours.

SUPPLEMENTARY INFORMATION: Turning Point Solar LLC proposes to construct a 49.9 MW solar generating facility in Brookfield Township, Noble County, Ohio. The proposal involves the installation of high-efficiency monocrystalline photovoltaic panels mounted on fixed solar racking equipment and the construction of access roads, a powerhouse, transmission improvements, and other supporting facilities. The applicant's proposed site for the proposal is located eight miles northwest of Caldwell, Ohio, on approximately 771 acres of reclaimed strip-mined land owned by Columbus Southern Power Company and Ohio Power Company, collectively American Electric Power Ohio (“AEP Ohio”). The land was mined by the Central Ohio Coal Company between 1969 and 1991, after which time it was reclaimed. The proposed generating facility would interconnect to AEP Ohio's South Cumberland 69kV substation, subject to completion of the PJM Generation Interconnection application process.

Among the alternatives that RUS will address in the EA is the No Action alternative, under which the proposal would not be undertaken. In the EA, the effects of the proposal will be compared to the existing conditions in the proposal area. Public health and safety, environmental impacts, and engineering aspects of the proposal will be considered in the EA.

RUS is the lead federal agency, as defined at 40 CFR 1501.5, for preparation of the EA. With this Notice, federally recognized Native American Tribes and federal agencies with jurisdiction or special expertise are invited to be cooperating agencies. Such tribes or agencies may make a request to RUS to be a cooperating agency by contacting the RUS contact provided in this Notice. Designated cooperating agencies have certain responsibilities to support the NEPA process, as specified at 40 CFR 1501.6(b).

As part of its broad environmental review process, RUS must take into account the effect of the proposal on historic properties in accordance with Section 106 of the National Historic Preservation Act (Section 106) and its implementing regulation, “Protection of Historic Properties” (36 CFR part 800). Pursuant to 36 CFR 800.2(d)(3), RUS is using its procedures for public involvement under NEPA to meet its responsibilities to solicit and consider the views of the public during Section 106 review. Accordingly, comments submitted in response to scoping will inform RUS decision-making in its Section 106 review process. Any party wishing to participate more directly with RUS as a “consulting party” in Section 106 review may submit a written request to the RUS contact provided in this Notice.

RUS will use input provided by government agencies, private organizations, and the public in the preparation of the EA. The EA will be available for review and comment for 30 days. If RUS finds, based on the EA, that the proposal will not have a significant effect on the quality of the human environment, RUS will prepare a Finding of No Significant Impact (FONSI). Notification of the EA and FONSI will be published in the Federal Register and in newspapers with circulation in the proposal's area. If substantive comments are received on the EA, RUS may provide an additional period (15 days) for public review following the publication of its FONSI. When appropriate to carry out the purposes of NEPA, RUS may impose, on a case-by-case basis, additional requirements associated with the preparation of an EA. If at any point in the preparation of an EA, RUS determines that the proposal will have a significant effect on the quality of the human environment, the preparation of an Environmental Impact Statement will be required.

Any final action by RUS related to the proposal will be subject to, and contingent upon, compliance with all relevant executive orders and federal, state, and local environmental laws and regulations in addition to the completion of the environmental review requirements as prescribed in RUS's Environmental Policies and Procedures, 7 CFR part 1794, as amended.

Dated: June 20, 2011.
Richard Fristik,
Acting Director, Engineering and Environmental Staff, USDA, Rural Utilities Service.

[FR Doc. 2011-15957 Filed 6-24-11; 8:45 am]

BILLING CODE P